NUCLEAR REGULATORY COMMISSION

[Docket Nos. 50-266 AND 50-301]

Nuclear Management Company, LLC; Point Beach Nuclear Plant, Units 1 and 2 Environmental Assessment and Finding of No Significant Impact

The U.S. Nuclear Regulatory Commission (NRC) is considering issuance of an exemption from certain requirements of Title 10 of the Code of Federal Regulations (10 CFR), Part 50, Section 50.60, for Facility Operating License Nos. DPR-24 and DPR-27, issued to the Nuclear Management Company, LLC (the licensee), for operation of the Point Beach Nuclear Plant (PBNP), Units 1 and 2, Facility Operating License Nos. DPR-24 and DPR-27, respectively, located in the town of Two Rivers, Manitowoc County, Wisconsin.

Environmental Assessment

Identification of the Proposed Action

The proposed action would exempt the licensee from certain requirements of 10 CFR 50.60 to allow the application of American Society of Mechanical Engineers Boiler and Pressure Vessel Code (ASME Code), Section XI, Code Case N-641, for determining the pressure-temperature (P-T) limit curves, the power-operated relief valve setpoint for low temperature overpressure protection (LTOP), and the LTOP effective temperature.

The proposed action is in accordance with the licensee's application for an exemption dated July 14, 2000.

The Need for the Proposed Action

ASME Code Case N-641 is needed to (1) determine stress intensity factors for postulated circumferential defects in circumferential welds, and for postulated axial defects in plates, forgings, and axial welds; (2) use the KIC fracture toughness curve shown in ASME Code, Section XI, Appendix A, Figure A-2200-1, in lieu of the KIA fracture toughness curve of ASME Code, Section XI, Appendix G, Figure G-22101, as the lowest bound for fracture toughness; and (3) determine the LTOP system effective temperature on a plant-specific basis consistent with ASME Code, Section XI, Appendix G. Also, ASME Code Case N-641 is needed to revise the method used to determine the RCS P-T limits since continued use of the present curves unnecessarily restricts the P-T operating window. Therefore, application of the code case will relax the LTOP operating window and reduce potential challenges to the reactor coolant system power-operated relief valves.

Environmental Impacts of the Proposed Action

The NRC staff has completed its evaluation of the proposed action and concludes that the exemption described above would provide an adequate margin of safety against brittle failure of the reactor pressure vessels at PBNP, Units 1 and 2.

The proposed action will not significantly increase the probability or consequences of accidents, no changes are being made in the types of any effluents that may be released offsite, and there is no significant increase in occupational or public radiation exposure. Therefore, there are no significant radiological impacts associated with the proposed action.

With regard to potential nonradiological environmental impacts, the proposed action does not involve any historic sites. It does not affect nonradiological plant effluents and has no other environmental impacts. Therefore, there are no significant nonradiological impacts associated with the proposed action.

Accordingly, the NRC staff concludes that there are no significant environmental impacts associated with the proposed action.

Alternatives to the Proposed Action

As an alternative to the proposed action, the NRC staff considered denial of the proposed action (i.e., the “no-action” alternative). Denial of the application would result in no change in current environmental impacts. The environmental impacts of the proposed action and the alternative action are similar.

Alternative Use of Resources

This action does not involve the use of any resources not previously considered in the Final Environmental Statement for PBNP, Units 1 and 2.

Agencies and Persons Consulted

In accordance with its stated policy, on September 22, 2000, the staff consulted with the Wisconsin State official, Ms. S. Jenkins of the Public Service Commission, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated July 14, 2000, which is available for public inspection at the Commission's Public Document Room, One White Flint North, 11555 Rockville Pike (first floor), Rockville, Maryland. Publically available records are accessible electronically from the ADAMS Public Library component on the NRC Web site, http://www.nrc.gov (the Electronic Reading Room).

Dated at Rockville, Maryland, this 29th day of September, 2000.
For The Nuclear Regulatory Commission.
Beth A. Wetzel,
Senior Project Manager, Section 1, Project Directorate III, Division of Licensing Project Management, Office of Nuclear Reactor Regulation.

[FR Doc. 00-25562 Filed 10-4-00; 8:45 am]

BILLING CODE 7590-01-P